DEPARTMENT OF JUSTICE

Antitrust Division

Notice Pursuant to the National Cooperative Research and Production Act of 1993—Expeditionary Missions Consortium—Crane

Notice is hereby given that, on April 14, 2025, pursuant to section 6(a) of the National Cooperative Research and Production Act of 1993, 15 U.S.C. 4301 et seq. (“the Act”), Expeditionary Missions Consortium—Crane (“EMC²”) has filed written notifications simultaneously with the Attorney General and the Federal Trade Commission disclosing changes in its membership. The notifications were filed for the purpose of extending the Act's provisions limiting the recovery of antitrust plaintiffs to actual damages under specified circumstances. Specifically, AForge LLC, Lorton, VA; Alpha-En Corporation, Hopewell Junction, NY; ArgenTech Solutions, Inc., Newmarket, NH; Artemis Electronics LLC, Prospect, KY; Booz Allen Hamilton, Inc., McLean, VA; Chugach Information Technology, Inc., Anchorage, AK; Decryptor, Inc., Richardson, TX; Empower Battery Technology, Inc., Gahanna, OH; Fathom5 Corp., Austin, TX; Hidden Level, Inc., Syracuse, NY; Industry Defense Systems LLC, Lansdale, CA; Lockheed Martin Aerostructures, Riviera Beach, FL; Ocean Power Technologies, Inc., Monroe Township, NJ; Olson Custom Designs LLC, Indianapolis, IN; Parallax Advanced Research Corporation, Beavercreek, OH; Rapid Innovation & Security Experts, Inc., Colorado Springs, CO; Raytheon Company—AZ, Tucson, AZ; Seafloor Systems, Inc., El Dorado Hills, CA; Stress Aerospace and Defense LLC, Houston, TX; Training Center Pros, Inc. dba EOD Gear, Franklin, TN; and UDC USA, Inc., Tampa, FL, have been added as parties to this venture.

Also, Plasan North America, Inc., Walker, MI, has withdrawn as a party to this venture.

No other changes have been made in either the membership or planned activity of the group research project. Membership in this group research project remains open, and EMC² intends to file additional written notifications disclosing all changes in membership.

On January 11, 2024, EMC² filed its original notification pursuant to section 6(a) of the Act. The Department of Justice published a notice in the Federal Register pursuant to section 6(b) of the Act on March 13, 2024 (89 FR 18439).

The last notification was filed with the Department on January 30, 2025. A notice was published in the Federal Register pursuant to section 6(b) of the Act on February 28, 2025 (90 FR 10943).

Suzanne Morris,
Deputy Director Civil Enforcement Operations, Antitrust Division.

[FR Doc. 2025-06924 Filed 4-22-25; 8:45 am]

BILLING CODE P